DEPARTMENT OF DEFENSE

Department of the Army

Availability for Non-Exclusive, Exclusive, or Partially Exclusive Licensing of U.S. Patent Application Concerning Asporogenic B. ANTHRACIS Expression System

Correction

In notice document 02-11067 beginning on page 22412 in the issue of Friday, May 3, 2002 make the following correction:

On page 22413, in the first column, under “ADDRESSES:” in the fifth line, “21705-5012” should read “21702-5012”.

[FR Doc. C2-11067 Filed 5-13-02; 8:45 am]

BILLING CODE 1505-01-D

DEPARTMENT OF DEFENSE

Department of the Army

Availability of Non-Exclusive, Exclusive License or Partially Exclusive Licensing of U.S. Patent Application Concerning Load Securing and Release System

Correction

In notice document 02-11073 appearing on page 22413 in the issue of Friday, May 3, 2002 make the following correction:

On page 22413, in the third column, under “FOR FURTHER INFORMATION CONTACT:”, in the fifth line, in the phone number “(508) 233-4298-4298” delete the duplicate “-4298”.

[FR Doc. C2-11073 Filed 5-13-02; 8:45 am]

BILLING CODE 1505-01-D

DEPARTMENT OF DEFENSE

Department of the Army

Availability for Non-Exclusive, Exclusive, or Partially Exclusive Licensing of U.S. Patent Concerning Low-Backscatter Aperture Structure

Correction

In notice document 02-11070 beginning on page 22413 in the issue of Friday, May 3, 2002 make the following corrections:

1. On page 22414, in the first column, under “ADDRESSES:”, in the sixth line, “ 21705-5012” should read “21702-5012”.

2. On the same page, in the same column, under “SUPPLEMENTARY INFORMATION:”, in the fourth line, after the word “system” insert the word “can”.

[FR Doc. C2-11070 Filed 5-13-02; 8:45 am]

BILLING CODE 1505-01-D